FEDERAL COMMUNICATIONS COMMISSION

[Report No. 2805]

Petition for Reconsideration of Action in Rulemaking Proceeding

February 2, 2007.

A Petition for Reconsideration has been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to this petition must be filed by March 16, 2007. See Section 1.4(b)(1) of the Commission's rules (47 CFR 1.4(b)(1)). Replies to an opposition must be filed within 10 days after the time for filing oppositions has expired.

Subject: In the Matter of Reallocation of 30 MHz of 700 MHz Spectrum (747-762/777-792 MHz) from Commercial Use (RM-11348).

Assignment of 30 MHz of 700 MHz Spectrum (747-762/777-792 MHz) to the Public Safety Broadband Trust for Deployment of a Shared Public Safety/Commercial Next Generation Wireless Network.

Number of Petitions Filed: 1.

Marlene H. Dortch,
Secretary.

[FR Doc. E7-3518 Filed 2-28-07; 8:45 am]

BILLING CODE 6712-01-P